DEPARTMENT OF THE INTERIOR

Fish and Wildlife Service

Guidance for the Establishment, Use, and Operation of Conservation Banks

AGENCY: Fish and Wildlife Service, Interior.

ACTION: Notice of availability.

SUMMARY: We, the U.S. Fish and Wildlife Service, are announcing availability of guidance for the establishment, use, and operation of conservation banks. Conservation banks are a tool to offset adverse impacts to species listed as threatened or endangered under the Endangered Species Act of 1973, as amended. The purpose of this guidance is to help Service personnel evaluate and approve conservation banks in the context of fulfilling the purposes of the Endangered Species Act.

ADDRESSES: You can obtain an electronic copy of the guidance from the Fish and Wildlife Service's Web site at “http://endangered.fws.gov/”. You can also request a copy of the guidance by contacting the Division of Consultation, Habitat Conservation Planning, Recovery and State Grants, U.S. Fish and Wildlife Service, 4401 North Fairfax Drive, Room 420, Arlington, Virginia 22203 (Telephone 703/358-2171, Facsimile 703/358-1735).

FOR FURTHER INFORMATION CONTACT: Patrick Leonard, Chief, Division of Consultation, Habitat Conservation Planning, Recovery and State Grants, Fish and Wildlife Service (Telephone 703/358-2171, Facsimile 703/358-1735).

SUPPLEMENTARY INFORMATION: A conservation bank is a parcel of land containing natural resource values that are conserved and managed in perpetuity for listed species and used to offset impacts to the comparable resource values on non-bank lands occurring elsewhere. The bank is specifically managed and protected by the banker or designee for its natural resource values. The values of the natural resources are translated into quantified “credits.” The bank owner sells habitat “credits” to parties that need to compensate for the environmental impacts of their activities. A conservation bank is a free-market enterprise that offers landowners economic incentives to protect natural resources, saves developers time and money by providing them with certainty of pre-approved compensation lands, and provides long-term protection of habitat. Conservation banking creates a collaborative incentive based approach where habitat for listed species is treated as an asset rather than a liability.

The Service has already entered into several agreements with landowners to establish conservation banks, mainly in the southwest and the southeast areas of the country. We believe that guidance will help establish conservation banks in other parts of the country. Please refer to the ADDRESSES section of this notice for information on how to obtain a copy of the guidance.

Authority: The authority for this action is the Endangered Species Act of 1973, as amended (16 U.S.C. 1531 et seq.).

Dated: April 25, 2003.
Matt Hogan,
Acting Director, Fish and Wildlife Service.

[FR Doc. 03-11458 Filed 5-7-03; 8:45 am]

BILLING CODE 4310-55-P